DEPARTMENT OF COMMERCE

Foreign-Trade Zones Board

[T-3-2005]

Foreign-Trade Zone 77 Memphis, Tennessee, Expansion of Manufacturing Authority Subzone 77B. Brother Industries (U.S.A.) Inc. (Manufacture/Refurbish Toner Cartridges), Notice of Approval

On September 29, 2005, the Executive Secretary of the Foreign-Trade Zones (FTZ) Board filed an application submitted by the City of Memphis and Shelby County, Division of Planning and Economic Development, grantee of FTZ 77, requesting temporary/interim manufacturing (T/IM) authority for manufacturing/refurbishing toner cartridges within Subzone 77B, at the Brother Industries (U.S.A.) Inc. plant in Bartlett, Tennessee. Brother later amended the application with the following statement: “Privileged foreign status (19 CFR Part 146.41) shall be elected on foreign merchandise admitted to the zone, which is classifiable in HTSUS headings or subheadings 2821, 2823, 3901.20, chapter 32, or where the foreign merchandise in question is described as a pigment, pigment preparation, masterbatch, plastic concentrate, flush color, paint dispersion, coloring preparation, or colorant.”

The application has been processed in accordance with T/IM procedures, as authorized by FTZ Board Order 1347, including notice in the Federal Register inviting public comment (70 FR 58371-58372, 10/6/05). The FTZ staff examiner reviewed the application and determined that it meets the criteria for approval under T/IM procedures. Pursuant to the authority delegated to the FTZ Board Executive Secretary in Board Order 1347, the application, as amended, is approved, effective this date, until December 9, 2007, subject to the FTZ Act and the Board's regulations, including Section 400.28.

Dated: December 9, 2005.
Dennis Puccinelli,
Executive Secretary.

[FR Doc. E5-7707 Filed 12-21-05; 8:45 am]

BILLING CODE 3510-DS-S